DEPARTMENT OF HEALTH AND HUMAN SERVICES

Centers for Medicare & Medicaid Services

[Document Identifier CMS-10242]

Agency Information Collection Activities: Proposed Collection; Comment Request; Correction

AGENCY: Centers for Medicare & Medicaid Services (CMS), HHS.

ACTION: Notice; correction.

SUMMARY: On January 27, 2023, CMS published a notice in the Federal Register that sought comment on a collection of information concerning CMS-10242 (OMB control number 0938-1049) entitled “Emergency Ambulance Transports and Beneficiary Signature.” The telephone number for the point of contact for policy questions is incorrect. This document corrects the error.

FOR FURTHER INFORMATION CONTACT: William N. Parham, III, (410) 786-4669.

SUPPLEMENTARY INFORMATION:

I. Background

In the January 27, 2023, issue of the Federal Register (87 FR 5360), we published a Paperwork Reduction Act notice requesting a 60-day public comment period for the information collection request identified under CMS-10242, OMB control number 0938-1049, and titled “Emergency Ambulance Transports and Beneficiary Signature.”

II. Explanation of Error

In the January 27, 2023, notice, the telephone number listed for the point contact for policy questions is incorrect. The incorrect language is on page 5361, in the third column, in the first paragraph, beginning on line 7 with “(For policy” and ending at the end of line 10. This notice provides the correct telephone number.

III. Correction of Error

In the Federal Register of January 27, 2023, in FR Doc. 2023-01718 on page 5361, in the third column, in the first paragraph, lines 7-10, beginning with the “(For policy” through the end of line 10 is corrected to “(For policy questions regarding this collection contact Sabrina Teferi at 404-562-7251.)”

Dated: January 27, 2023.
William N. Parham, III,
Director, Paperwork Reduction Staff, Office of Strategic Operations and Regulatory Affairs.

[FR Doc. 2023-02119 Filed 1-31-23; 8:45 am]

BILLING CODE 4120-01-P